DEPARTMENT OF LABOR

Office of the Secretary

Submission for OMB Review; Comment Request

January 17, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or E-Mail: King-Darrin@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Temporary Labor Camps.

OMB Number: 1218-0096.

Affected Public: Business or other for-profit; farms, Federal Government; and State, Local, or Tribal Government.

Frequency: On occasion.

Type of Responses: Reporting.

Number of Respondents: 863.

Annual Responses: 863.

Average Response Time: 5 minutes.

Annual Burden Hours: 69.

Total Annualized Capital/Startup Costs: $0.

Total Annual Costs (operating/maintaining systems or purchasing services): $0.

Description: 29 CFR 1910.142(1) requires temporary labor camp superintendents to report immediately to the local health officer the name and address of any individual in the camp known to have or suspected of having a communicable disease or suspected food poisoning, or an unusual prevalence of any illness in which fever, diarrhea, sore throat, vomiting or jaundice is a prominent symptom. The information is used to limit the incidence of communicable disease among temporary labor camp residence.

Ira L. Mills,
Departmental Clearance Officer.

[FR Doc. 03-1850 Filed 1-27-03; 8:45 am]

BILLING CODE 4510-13-M